ENVIRONMENTAL PROTECTION AGENCY

40 CFR Part 300

[EPA-R04-SFUND-2006-0228; FRL-8187-9]

National Oil and Hazardous Substances Pollution Contingency Plan; National Priorities List

AGENCY: Environmental Protection Agency (EPA).

ACTION: Notice of intent to delete the Davie Landfill Superfund Site from the National Priorities List.

SUMMARY: EPA Region 4 is issuing a notice of intent to delete the Davie Landfill Superfund Site (Site) located in Davie, Florida, from the National Priorities List (NPL) and requests public comments on this notice of intent. The NPL, promulgated pursuant to section 105 of the Comprehensive Environmental Response, Compensation, and Liability Act (CERCLA) of 1980, as amended, is found at Appendix B of 40 CFR part 300 which is the National Oil and Hazardous Substances Pollution Contingency Plan (NCP). EPA and the State of Florida, through the Florida Department of Environmental Protection (FDEP), have determined that all appropriate response actions under CERCLA, other than operation and maintenance and five-year reviews, have been completed. However, this deletion does not preclude future actions under Superfund.

In the Final Rules Section of this Federal Register, the EPA is approving the direct final notice of deletion of the Davie Landfill Superfund Site without prior proposal because the Agency views this as a noncontroversial submittal and anticipates no adverse comments. A detailed rationale for the approval is set forth in the direct final notice. If no significant, material, and adverse comments are received in response to this notice, no further activity is contemplated. If EPA receives adverse comments, the direct final notice will be withdrawn and all public comments received will be addressed in a subsequent final notice based on this proposed notice. The EPA will not institute a second comment period on this document. Any parties interested in commenting on this document should do so at this time.

DATES: Comments concerning this Site must be received by July 24, 2006.

ADDRESSES: Submit your comments, identified by EPA-R04-SFUND-2006-0228 by one of the following methods:

1. http://www.regulations.gov: Follow the on-line instructions for submitting comments.

2. E-mail: martin.scott@epa.gov.

3. Fax: (404) 562-8896.

4. Mail: “(EPA-R04-SFUND-2006-0228)”, Superfund Remedial Section C, Superfund Remedial & Technical Services Branch, Waste Management Division, U.S. Environmental Protection Agency, Region 4, 61 Forsyth Street, SW., Atlanta, Georgia 30303-8960.

5. Hand Delivery or Courier: Scott M. Martin, Remedial Project Manager, Waste Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Please see the direct final notice which is located in the Rules section of this Federal Register for detailed instructions on how to submit comments.

FOR FURTHER INFORMATION CONTACT: Scott M. Martin, Remedial Project Manager, Superfund Remedial Section C, Superfund Remedial & Technical Services Branch, Waste Management Division, U.S. Environmental Protection Agency, Region 4, 61 Forsyth Street, SW., Atlanta, Georgia 30303-8960. The telephone number is (404) 562-8916. Mr. Martin can also be reached via electronic mail at martin.scott@epa.gov.

SUPPLEMENTARY INFORMATION: For additional information see the direct final notice which is published in the Rules Section of this Federal Register.

Information Repositories: Repositories have been established to provide detailed information concerning this decision at the following address: Davie Landfill Superfund Site Repository, Broward County Main Public Library, 100 S. Andrews Ave., Level 5, Ft. Lauderdale, Florida 33301.

U.S. EPA Record Center, attn: Ms. Debbie Jourdan, Atlanta Federal Center, 61 Forsyth Street, SW., Atlanta, Georgia 30303-8960, Phone: (404) 562-8862, Hours: 8 a.m. to 4 p.m., Monday through Friday by appointment only.

Dated: June 8, 2006.
A. Stanley Meiburg,
Acting Regional Administrator, Region 4.

[FR Doc. 06-5596 Filed 6-21-06; 8:45 am]

BILLING CODE 6560-50-P